DEPARTMENT OF HEALTH AND HUMAN SERVICES

Administration for Children and Families

[OMB #0970-0462]

Submission for OMB Review; National and Tribal Evaluation of the 2nd Generation of the Health Profession Opportunity Grants

AGENCY: Office of Planning, Research, and Evaluation, Administration for Children and Families, HHS.

ACTION: Request for public comment.

SUMMARY: The Health Profession Opportunity Grants (HPOG) Program provides healthcare occupational training for Temporary Assistance for Needy Families recipients and other low-income people. The Office of Management and Budget (OMB) has approved various data collection activities for the National and Tribal Evaluation of the 2nd Generation of HPOG (HPOG 2.0 National and Tribal Evaluation) under OMB #0970-0462. Due to the profound effects the COVID-19 pandemic has had on the U.S. economy, on families nationwide and on HPOG 2.0 programs, the Office of Planning, Research, and Evaluation (OPRE) is considering surveying study participants who applied to the HPOG Program after the onset of the pandemic. This notice provides a summary for public review and comment of the use and burden associated with a new information collection for this “COVID Cohort” Survey.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The COVID-19 pandemic has had profound effects on the U.S. economy, on the healthcare sector and on individuals and families across the country. The pandemic has also had broad implications for HPOG 2.0 programs—on how and how much healthcare training is delivered, on demand for healthcare workers, on interest in working in health care, and on the labor market more broadly. OPRE seeks to understand the particular experiences of those who apply for the HPOG Program during this period by surveying study participants enrolled after the onset of the pandemic. The COVID Cohort Survey would collect important information on participant experiences 15 months after randomization and would allow the impact study to compare impacts for pre-COVID participants with impacts for those enrolled after the onset the pandemic.

Respondents: HPOG impact study participants from the 27 non-tribal HPOG 2.0 grantees (treatment and control group members who enroll between May 2020 and September 2021).

Annual Burden Estimates: This request is specific to the COVID Cohort Survey. Currently approved materials and associated burden can be found at: https://www.reginfo.gov/public/do/PRAICList?ref_nbr=201904-0970-006.

Instrument | Number of respondents (total over request period) | Number of responses per respondent (total over request period) | Average burden per response (in hours) | Total burden (in hours) | Annual burden (in hours)
Instrument 12a: COVID-19 Cohort Survey | 5,625 | 1 | 1 | 5,625 | 1,875

Estimated Total Annual Burden Hours: 1,875.

Authority: Section 2008 of the Social Security Act as enacted by Section 5507 of the Affordable Care Act and Section 413 of the Social Security Act, 42 U.S.C. 613.

Mary B. Jones,
ACF/OPRE Certifying Officer.

[FR Doc. 2021-10732 Filed 5-20-21; 8:45 am]

BILLING CODE 4184-72-P